FEDERAL COMMUNICATIONS COMMISSION

47 CFR Part 73

[DA 02-2816; MM Docket No. 01-341; RM-10346]

Radio Broadcasting Services; Coosada, Alabama

AGENCY: Federal Communications Commission.

ACTION: Final rule, petition for reconsideration.

SUMMARY: This document grants a petition for reconsideration filed by Media Equities Corporation, seeking reconsideration of the Report and Order in this proceeding, and requesting deletion of Channel 226A at Coosada, Alabama. See 67 FR 20459, April 25, 2002. That Report and Order allotted, at Media Equities' request, Channel 226A at Coosada, Alabama. Media Equities requests reconsideration of this allotment and withdraws its expression of interest. With no other expression of interest in the allotment, the allotment is deleted.

DATES: Effective December 9, 2002.

FOR FURTHER INFORMATION CONTACT: Victoria M. McCauley, Media Bureau, (202) 418-2180.

SUPPLEMENTARY INFORMATION: This is a synopsis of the Commission's Memorandum Opinion and Order in MM Docket No. 01-341, adopted October 16, 2002, and released October 25, 2002. The full text of this decision is available for inspection and copying during normal business hours in the FCC's Reference Information Center at Portals II, CY-A257, 445 12th Street, SW., Washington, DC. The complete text of this decision may also be purchased from the Commission's copy contractor, Qualex International, Portals ll, 445 12th Street, SW., Room CY-B402, Washington, DC 20554, telephone 202-863-2893, facsimile 202-863-2898, or via e-mail qualexint@aol.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

List of Subjects in 47 CFR Part 73

Radio, Radio broadcasting.

Part 73 of Title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Alabama, is amended by removing Coosada, Channel 226A.

Federal Communications Commission.
John A. Karousos,
Assistant Chief, Audio Division, Media Bureau.

[FR Doc. 02-29238 Filed 11-18-02; 8:45 am]

BILLING CODE 6712-01-P